DEPARTMENT OF THE INTERIOR

Bureau of Land Management

[CO-200-0777-XM-241A]

Notice of Meeting, Front Range Resource Advisory Council (Colorado)

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Front Range Resource Advisory Council (RAC), will meet as indicated below.

DATES: The meeting will be held July 7, 2004 from 10 a.m. to 5 p.m. and will continue on July 8, 2004 from 9 a.m. to 3 p.m.

ADDRESSES: High Country Bank, 7360 W. U.S. Hwy. 50, Salida, CO 81201.

FOR FURTHER INFORMATION CONTACT: Ken Smith, (719) 269-8500.

SUPPLEMENTARY INFORMATION: The 15 member Council advises the Secretary of the Interior, through the Bureau of Land Management, on a variety of planning and management issues associated with public land management in the Royal Gorge Field Office and San Luis Valley, Colorado. Planned agenda topics on July 7 include: Manager updates on current land management issues; Arkansas River water flow issues and a Travel Management Plan update. On July 8 the Council will tour the Browns Canyon segment of the Arkansas River to observe and discuss river management issues.

All meetings are open to the public. The public is encouraged to make oral comments to the Council at 10:15 a.m. on July 7, 2004 or written statements may be submitted for the Council's consideration. Depending on the number of persons wishing to comment and time available, the time for individual oral comments may be limited. The public is also welcome to attend the river tour on July 8, if space is available, however they will need to call the Royal Gorge Field Office at (719) 269-8500 before July 1 for details on how to make arrangements. Summary minutes for the Council Meeting will be maintained in the Royal Gorge Field Office and will be available for public inspection and reproduction during regular business hours within thirty (30) days following the meeting. Meeting Minutes are also available at: http://www.blm.gov/rac/co/frrac/co_fr.htm

Dated: June 9, 2004.
Roy L. Masinton,
Royal Gorge Field Manager.

[FR Doc. 04-13709 Filed 6-16-04; 8:45 am]

BILLING CODE 4310-JB-P